DEPARTMENT OF COMMERCE

National Oceanic and Atmospheric Administration

Agency Information Collection Activities; Submission to the Office of Management and Budget (OMB) for Review and Approval; Comment Request; West Coast Fisheries Participation Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 9, 2026.

ADDRESSES: Interested persons are invited to submit written comments to Adrienne Thomas, NOAA PRA Officer, at NOAA.PRA@noaa.gov. Please reference OMB Control Number 0648-0749 in the subject line of your comments. All comments received are part of the public record and will generally be posted on https://www.regulations.gov without change. Do not submit Confidential Business Information or otherwise sensitive or protected information.

FOR FURTHER INFORMATION CONTACT: Requests for additional information or specific questions related to collection activities should be directed to National Oceanic and Atmospheric Administration, National Marine Fisheries Service, Dan Holland, Research Economist, 2725 Montlake Blvd. East, Seattle, WA 98112-2097, dan.holland@noaa.gov, (206) 302-1752.

SUPPLEMENTARY INFORMATION:

I. Abstract

This request is for a revision and extension of an existing information collection. This survey updates the 2023 survey to remove a question regarding identity in underserved groups and provide multiple choice answer options for two questions that were previously open-ended in order to reduce response time.

This collection is sponsored by the Northwest Fisheries Science Center (NWFSC), National Oceanic and Atmospheric Administration. The overall purpose of collecting these data is to develop stakeholder-based societal inputs relative to fisheries participation, but these survey data will also increase the capacity of NOAA to respond effectively to relevant mandates and executive orders that guide social science activities within the National Marine Fisheries Service (NEPA, MFCMA and its National Standard 8, and Executive Order (E.O.) 12898).

Fishing livelihoods are both centrally dependent on ecosystems and part of the forces acting on these ecosystems, including resident marine species. Alongside social factors like economics and management, fisheries population fluctuations shape fishing livelihoods. However, the decisions fishermen make regarding which fisheries to access and when to access them are not fully understood, particularly within the food web frameworks offered up by ecosystem-based approaches to research and management. An understanding and predictive capacity for these movements of fishermen across fisheries in the context of ecological and social variability presents a significant gap in management-oriented knowledge. Managing fisheries in a way that enhances their socioeconomic value, mitigates risks to ecosystems and livelihoods, and facilitates sustainable adaptation, requires this fundamental knowledge.

For this reason, the NWFSC seeks to conduct a follow-up U.S. mail survey, replicating the surveys administered during 2017, 2020, and 2023. This survey updates the 2023 survey to remove a question regarding identity in underserved groups and provide multiple choice answer options for two questions that were previously open-ended in order to reduce response time. The survey will be voluntary, and contacted individuals may decline to participate. Respondents will be asked to answer questions about their motivations for fishing and factors that affect participation in the suite of West Coast commercial fisheries. Fishing and non-fishing employment information will also be collected. This survey is essential because data on smaller scale fishing practices, values, participation decisions and fishing livelihoods are sparse; yet they are critical to the development of fishery ecosystem models that account for non-pecuniary fishing benefits, as well as the ways in which fishing practices shape individual and community well-being.

II. Method of Collection

The information described in the survey will be collected primarily through the use of completed paper surveys sent via U.S. mail, with an option for web-based input available to mail survey recipients. NWFSC staff will contract a private research survey firm to mail out the survey via U.S. mail, and NWFSC scientists will be responsible for analyzing the data and disseminating the findings generated by the survey. This approach has demonstrated effective response and minimal burden in 2017, 2020, and 2023.

III. Data

OMB Control Number: 0648-0749.

Form Number(s): None.

Type of Review: Regular submission [revision and extension of a current information collection].

Affected Public: Individuals or households.

Estimated Number of Respondents: 908.

Estimated Time per Response: 15 minutes.

Estimated Total Annual Burden Hours: 227.

Estimated Total Annual Cost to Public: $0.

Respondent's Obligation: Voluntary.

Legal Authority: National Marine Fisheries Service (NEPA, MFCMA and its National Standard 8, and Executive Order (E.O.) 12898.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-22386 Filed 12-9-25; 8:45 am]

BILLING CODE 3510-22-P